DEPARTMENT OF TRANSPORTATION

Federal Aviation Administration

14 CFR Part 39

[Docket No. 93-CE-37-AD; Amendment 39-12919; AD 94-20-04 R1]

RIN 2120-AA64

Airworthiness Directives; Raytheon Aircraft Company Beech Models C35, D35, E35, F35, G35, H35, J35, K35, M35, N35, P35, S35, V35, V35A and V35B Airplanes

AGENCY: Federal Aviation Administration, DOT.

ACTION: Final rule.

SUMMARY: This amendment revises Airworthiness Directive (AD) 94-20-04, which currently requires ruddervator inspections, modifications, and operating limitations on certain Raytheon Aircraft Company (Raytheon) Beech Models 35, 35R, A35, B35, C35, D35, E35, F35, G35, H35, J35, K35, M35, N35, P35, S35, V35, V35A, and V35B airplanes. This AD is the result of information received from the field on the ability to accomplish and understand the existing AD. This AD will condense and clarify information presented in AD 94-20-04 and will remove Beech Models 35, 35R, A35, and B35 airplanes from the applicability of AD 94-20-04. We are incorporating the actions that apply to Beech Models 35, 35R, A35, and B35 airplanes into another AD action. The actions specified by this AD are intended to prevent structural failure of the V-tail, which could result in loss of control of the airplane.

DATES: This AD becomes effective on December 10, 2002.

The Director of the Federal Register previously approved the incorporation by reference of certain publications listed in the regulations as of November 28, 1994 (59 FR 49785, September 30, 1994).

ADDRESSES: You may get the service information referenced in this AD from the Raytheon Aircraft Company, P.O. Box 85, Wichita, Kansas 67201-0085; telephone: (800) 625-7043 or (316) 676-4556. You may view this information at the Federal Aviation Administration (FAA), Central Region, Office of the Regional Counsel, Attention: Rules Docket No. 93-CE-37-AD, 901 Locust, Room 506, Kansas City, Missouri 64106; or at the Office of the Federal Register, 800 North Capitol Street, NW, suite 700, Washington, DC.

FOR FURTHER INFORMATION CONTACT: Mr. T.N. Baktha, Aerospace Engineer, FAA, Wichita Aircraft Certification Office, 1801 Airport Road, Mid-Continent Airport, Wichita, Kansas 67209; telephone: (316) 946-4155; facsimile: (316) 946-4407.

SUPPLEMENTARY INFORMATION:

Discussion

Has FAA Taken Any Action on the Raytheon Airplane Ruddervator System to This Point?

The following paragraphs describe ADs that FAA issued to address the V-tail structure on Raytheon Beech 35 series airplanes.

AD 94-20-04, Amendment 39-9032 (59 FR 49785, September 30, 1994), currently requires the following on certain Beech Models 35, 35R, A35, B35, C35, D35, E35, F35, G35, H35, J35, K35, M35, N35, P35, S35, V35, V35A, and V35B airplanes:

—Checking the ruddervator static balance and rebalancing the ruddervators when the balance is not in accordance with manufacturer's specifications or anytime the ruddervators are repaired or repainted;

—Repetitively inspecting the fuselage bulkheads for damage and replacing any damaged parts;

—Installing stabilizer reinforcements for some airplane models, as applicable;

—Fabricating and installing airspeed limitation placards;

—Incorporating certain airspeed limitations into the airplane flight manual/pilot's operating handbook (AFM/POH);

—inspecting the empennage, aft fuselage, and ruddervator control system for damage and replacing or repairing any damaged parts; and

—Ensuring the accuracy of the airplane basic weight and balance information and immediately correcting any discrepancies.

Accomplishment of these actions is required in accordance with the instructions to either Beech Kit No. 35-4016-3, 35-4016-5, 35-4016-7, or 35-4016-9, as applicable and as specified in Beech Service Bulletin (SB) No. 2188, dated May, 1987, and the applicable maintenance and shop manuals.

AD 98-13-02, Amendment 39-10590 (63 FR 31916, June 11, 1998), currently requires operating limitations in order to address ruddervator problems on Beech Models 35, A35, B35, and 35R airplanes.

What Has Happened Since AD 94-20-04 and AD 98-13-02 To Initiate This Action?

AD 94-20-04 contains minor errors and FAA receives periodic calls from the public for clarification.

In addition, Raytheon has issued Recommended Service Bulletin No. SB 27-3358, Issued: February, 2000, which includes procedures for inspecting the aft fuselage, ruddervator, and related systems for acceptable condition and rebalancing the ruddervators to new specifications (upper limit reduced from 19.8 to 18 inch-pounds (tail heavy)). Accomplishing these inspections will eliminate the need for the operating limitations of AD 98-13-02.

Has FAA Taken Any Action to This Point?

We issued a proposal to amend part 39 of the Federal Aviation Regulations (14 CFR part 39) to include an AD that would apply to certain Raytheon Beech Models C35, D35, E35, F35, G35, H35, J35, K35, M35, N35, P35, S35, V35, V35A, and V35B airplanes. This proposal was published in the Federal Register as a notice of proposed rulemaking (NPRM) on March 26, 2001 (66 FR 16422). The NPRM proposed to revise AD 94-20-04, Amendment 39-9032, to condense and clarify the information presented in that AD, and to remove Beech Models 35, 35R, A35, and B35 airplanes from the Applicability of AD 94-20-04. The NPRM also proposed to incorporate the actions applicable to Beech Models 35, 35R, A35, and B35 airplanes into another AD action.

The operating limitations from AD 94-20-04 for the Beech Models C35, D35, E35, F35, G35, H35, J35, K35, M35, N35, P35, S35, V35, V35A, and V35B airplanes are not included in this AD because the other actions retained from AD 94-20-04 make them unnecessary.

The repetitive inspections currently required by AD 94-20-04 for Beech Models 35, 35R, A35, and B35 airplanes will be incorporated into another AD action.

Was the Public Invited To Comment?

The FAA encouraged interested persons to participate in the making of this amendment. The following presents the comments received on the proposal and FAA's response to each comment:

Comment Issue No. 1: Correct Typographical Error in NPRM

What Is the Commenter's Concern?

One commenter points out that the phrase “airplane basic weight” is referred to as “airplane basis weight” in the Federal Register.

What Is FAA's Response to the Concern?

The FAA concurs. The original documents that FAA submitted to the Office of the Federal Register were correct. The Government Printing Office (GPO) made a typographical error. We will ensure that this is corrected in the final rule.

Comment Issue No. 2: Clarify When To Set Elevator Controls, Rudder and Tab System Controls, Cable Tensions, and Rigging

What Is the Commenter's Concern?

One commenter states that it is unclear when to set the elevator controls, rudder and tab system controls, cable tensions, and rigging. The commenter specifically asks whether this is necessary at every required 100-hour TIS inspection or only when repair or replacement is necessary.

What Is FAA's Response to the Concern?

The FAA concurs that the way it is currently written could be confusing. You should accomplish these actions at every 100-hour TIS inspection. We will rewrite this section of the AD to clarify this.

Comment Issue No. 3: Should This AD or Similar Action Affect Models 35, 35R, A35, and B35 Airplanes

What Is the Commenter's Concern?

The commenter asks whether the actions of Raytheon Service Bulletin 27-3358 should be incorporated on Models 35, 35R, A35, and B35 airplanes.

What Is FAA's Response to the Concern?

The actions of Raytheon Service Bulletin 27-3358 should be incorporated on Models 35, 35R, A35, and B35 airplanes. This is required in another AD action. The following is taken from Note 1 of the NPRM:

Beech Models 35, 35R, A35, B35 airplanes were included in the Applicability of AD 94-20-04 . We have removed Beech Models 35, 35R, A35, and B35 airplanes from the Applicability section of this AD and incorporated the actions applicable to these airplanes into another AD action.

We will add a statement about Raytheon Service Bulletin 27-3358 to this note in the final rule AD action.

FAA's Determination

What Is FAA's Final Determination on This Issue?

After careful review of all available information related to the subject presented above, we have determined that air safety and the public interest require the adoption of the rule as proposed except for the changes discussed above and minor editorial corrections. We determined that these changes and minor corrections:

—Will not change the meaning of the AD; and

—Will not add any additional burden upon the public than was already proposed.

Cost Impact

How Many Airplanes Does This AD Impact?

We estimate that this AD affects 10,200 airplanes in the U.S. registry.

What is the Cost Impact of This AD on Owners/Operators of the Affected Airplanes?

We estimate the following costs to accomplish the initial inspections. These cost figures are exactly the same as what is currently required by AD 94-20-04. This AD presents no new costs upon the public:

Labor cost | Parts cost | Total cost per airplane | Total cost on U.S. operators
40 workhours × $60 per hour = $2,400 | Not Applicable | $2,400 | $24,480,000.

The above figures are based only on the initial inspections and do not take into account the cost of repetitive inspections or adjustments, repairs, or replacements that will be necessary based on the results of the inspections. We have no way of determining the number of repetitive inspections each owner/operator of the affected airplanes will incur or what adjustments, repairs, or replacements will be necessary based on the results of the inspections.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 94-20-04, Amendment 39-9032 (59 FR 49785, September 30, 1994), and by adding a new AD to read as follows:

94-20-04 R1 Raytheon Aircraft Company (Beech Aircraft Corporation formerly held Type Certificate (TC) No. A-777 and TC No. 3A15): Amendment 39-12919; Docket No. 93-CE-37-AD; Revises AD 94-20-04, Amendment 39-9032.

(a) What airplanes are affected by this AD? This AD affects the following airplanes that are certificated in any category:

(1) Beech Models C35, D35, E35, F35, G35, H35, J35, K35, M35, N35, and P35 airplanes, all serial numbers; and

(2) Beech Models S35, V35, V35A, and V35B airplanes, all serial numbers, that do not have the straight tail conversion modification incorporated in accordance with Supplemental Type Certificate (STC) SA2149CE.

Note 1: Beech Models 35, 35R, A35, B35 airplanes were included in the Applicability of AD 94-20-04 . We have removed Beech Models 35, 35R, A35, and B35 airplanes from the Applicability section of this AD and incorporated the actions applicable to these airplanes into another AD action. Part of this other AD action is the incorporation of Raytheon Service Raytheon Service Bulletin 27-3358.

(b) Who must comply with this AD? Anyone who wishes to operate any of the airplanes identified in paragraphs (a), (a)(1), and (a)(2) of this AD must comply with this AD.

(c) What problem does this AD address? The actions specified by this AD are intended to prevent structural failure of the V-tail, which could result in loss of control of the airplane.

(d) What actions must I accomplish to address this problem? To address this problem, you must accomplish the following:

Actions | Compliance | Procedures
(1) Verify that the ruddervator balance is within the manufacturer's specified limits as defined in the applicable shop or maintenance manual and balance the ruddervator control surfaces, as necessary | Within the next 100 hours TIS after November 28, 1994 (the effective date of AD 94-20-04) and thereafter prior to further flight after the ruddervators are repaired or repainted (even if stripes are added or paint is touched up) | Verify in accordance with the applicable shop or maintenance manual. Balance the ruddervator control surfaces in accordance with Section 3 of Beech Shop Manual 35-590096B19, or subsequent revisions.
(2) Visually inspect the empennage, aft fuselage, and ruddervator control system for damage (i) Repair or replace any damaged parts; and (ii) Set the elevator controls, rudder and tab system controls, cable tensions, and rigging | Inspect and set the controls, tension, and rigging within the next 100 hours TIS after November 28, 1994 (the effective date of AD 94-20-04) and thereafter at intervals not to exceed 100 hours TIS. Accomplish any repairs and replacements prior to further flight after the applicable inspection | In accordance with the procedures and as specified in the instructions to Beech Kit 35-4017-1 “Kit Information Empennage and Aft Fuselage Inspection”, as specified in Beech Service Bulletin No. 2188, dated May, 1987.
(3) Remove all external stabilizer reinforcements installed during incorporation of either Supplemental Type Certificate (STC) SA845GL, STC SA846GL, STC SA1650CE, STC SA2286NM, or STC SA2287NM, as applicable (i) Seal or fill any residual holes with appropriate size rivets (ii) The internal stub spar incorporated through STC SA1649CE and STC SA1650CE may be retained (iii) The external angles incorporated through STC SA1649CE may also be retained by properly trimming the leading edges section to permit installation of the stabilizer reinforcement referenced in paragraph (d)(4)(i) of this AD (iv) For the Beech Models S35, V35, V35A, and V35B airplanes, you may retain and use the tail-safe external angles that were installed in accordance with STC SA1649CE instead of the stabilizer reinforcement specified in paragraph (d)(4)(i) of this AD. | Within the next 100 hours TIS after November 28, 1994 (the effective date of AD 94-20-04), unless already accomplished | In accordance with the applicable maintenance information.
(4) Accomplish the following: (i) Install stabilizer reinforcements; (ii) Set the elevator nose-down trim; and (iii) Replace the ruddervator tab control cables with larger diameter cables | Within the next 100 hours TIS after November 28, 1994 (the effective date of AD 94-20-04), unless already accomplished | In accordance with the instructions to RAC Kit No. 35-4016-3, 35-4016-5, 35-4016-7, or 35-4016-9, as applicable and as specified in Beech SB No. 2188, dated May, 1987.
(5) Verify the accuracy of the airplane basic weight and balance information and correct any discrepancies | Accomplish the airplane basic weight and balance accuracy verification within the next 100 hours TIS after November 28, 1994 (the effective date of AD 94-20-04), unless already accomplished. Correct any discrepancies prior to further flight after the verification | Use the procedures contained in the Appendix to this AD.

(e) Can I comply with this AD in any other way? (1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) Alternative methods of compliance approved in accordance with AD 94-20-04, which is revised by this AD, are approved as alternative methods of compliance with this AD.

Note 2: This AD applies to each airplane identified in paragraphs (a), (a)(1), and (a)(2) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. T.N. Baktha, Aerospace Engineer, FAA, Wichita Aircraft Certification Office, 1801 Airport Road, Mid-Continent Airport, Wichita, Kansas 67209; telephone: (316) 946-4155; facsimile: (316) 946-4407.

(g) What if I need to fly the airplane to another location to comply with this AD? The FAA can issue a special flight permit under §§ 21.197 and 21.199 of the Federal Aviation Regulations (14 CFR 21.197 and 21.199) to operate your airplane to a location where you can accomplish the requirements of this AD.

(h) Are any service bulletins incorporated into this AD by reference? Actions required by this AD must be done in accordance with Beech Kit No. 35-4016-3, 35-4016-5, 35-4016-7, or 35-4016-9, and the instructions to Beech Kit 35-4017-1 “Kit Information Empennage & Aft Fuselage Inspection”, as applicable and specified in Beech Service Bulletin No. 2188, dated May 1987. The Director of the Federal Register previously approved this incorporation by reference under 5 U.S.C. 552(a) and 1 CFR part 51 as of November 28, 1994 (59 FR 49785, September 30, 1994). You may get copies from the Raytheon Aircraft Company, PO Box 85, Wichita, Kansas 67201-0085. You may view copies at FAA, Central Region, Office of the Regional Counsel, 901 Locust, Room 506, Kansas City, Missouri, or at the Office of the Federal Register, 800 North Capitol Street, NW., suite 700, Washington, DC.

(i) Does this AD action affect any existing AD actions? This amendment revises AD 94-20-04, Amendment 39-9032.

(j) When does this amendment become effective? This amendment becomes effective on December 10, 2002.

Appendix to AD 94-20-04 R1

Weight and Balance Accuracy Method No. 1

1. Review existing weight and balance documentation to assure completeness and accuracy of the documentation from the most recent FAA-approved weighing or from factory delivery to date of compliance with this AD.

2. Compare the actual configuration of the airplane to the configuration described in the weight and balance documentation.

3. If equipment additions or deletions are not reflected in the documentation or if modifications affecting the location of the center of gravity (e.g., paint or structural repairs) are not documented, determine the accuracy of the airplane weight and balance data in accordance with Method No. 2.

Weight and Balance Information Accuracy Method No. 2

1. Determine the basic empty weight and center of gravity (CG) of the empty airplane using the Weighing Instructions in the Weight and Balance section of the airplane flight manual/pilot's operating handbook (AFM/POH).

2. Record the results in the airplane records, and use these new values as the basis for computing the weight and CG information as specified in the Weight and Balances section of the AFM/POH.

Issued in Kansas City, Missouri, on October 15, 2002.
Dorenda D. Baker,
Acting Manager, Small Airplane Directorate, Aircraft Certification Service.

[FR Doc. 02-26667 Filed 10-21-02; 8:45 am]

BILLING CODE 4910-13-P